Title 3—

The President

Proclamation 7898 of May 5, 2005

Jewish Heritage Week, 2005

By the President of the United States of America

A Proclamation

During Jewish Heritage Week, we celebrate and honor Jewish Americans for their contributions to this country and for helping to shape our national character.

The story of the Jewish people reflects the triumph of faith, the importance of family, and the power of hope. Through inspiring stories of personal sacrifice and survival, the Jewish people have demonstrated unyielding trust in a loving God and enduring faith in human freedom.

America is stronger and more hopeful because of the industry, talent, and imagination of Jewish Americans from around the world. Their commitment to excellence in science, public service, law, athletics, literature, and countless other fields has enriched our Nation and enhanced our culture. Through strong ties to family and community, Jewish Americans reflect a compassionate spirit and set a positive example for others.

We are also grateful for their legacy of selfless service to our country. As our troops defend liberty and justice abroad, we recognize Jewish Americans who have answered the call to help keep our Nation secure and build a more peaceful world. Their personal courage, love of country, and devotion to duty are helping to bring freedom and hope to millions who had previously lived under tyranny.

NOW, THEREFORE, I, GEORGE W. BUSH, President of the United States of America, by virtue of the authority vested in me by the Constitution and laws of the United States, do hereby proclaim May 8 through May 15, 2005, as Jewish Heritage Week. I urge all Americans to celebrate the contributions of Jewish Americans to our Nation and observe this week with appropriate programs and activities.

IN WITNESS WHEREOF, I have hereunto set my hand this fifth day of May, in the year of our Lord two thousand five, and of the Independence of the United States of America the two hundred and twenty-ninth.

B

[FR Doc. 05-9439

Filed 5-9-05; 8:45 am]

Billing code 3195-01-P